DEPARTMENT OF AGRICULTURE

Forest Service

Siskiyou Resource Advisory Committee (RAC)

AGENCY: Forest Service, USDA.

ACTION: Notice of meeting.

SUMMARY: The Siskiyou Resource Advisory Committee (RAC) will meet on Thursday, March 28, and Friday, March 29, 2002. Thursday's meeting will begin at 10 a.m. and conclude at approximately 5 p.m. Friday's meeting will begin at 8 a.m. and will conclude at approximately 5 p.m. The meetings will be held at the Anne Basker Auditorium, 600 NW 6th Street, Grants Pass, Oregon. The agenda for March 28 includes: (1) Review of the Title II projects; (2) Agreements of the process for the RAC to recommend projects; (3) Recommendation of projects to be funded; (4) Election of the RAC vice-chairperson; and (5) Public Forum. The public forum will begin at 3 p.m. on Thursday. The time allotted for individual presentations during the public forum segment will be limited to 3-4 minutes (depending on the number of presenters) on both days. The agenda for Friday, March 29 includes: (1) Continuation of the projects to be recommended by the RAC: and (2) Public Forum. The public forum will begin at 11 a.m. on Friday. Written comments are encouraged, particularly if the material cannot be presented within the time limits for the public forum. Written comments may be submitted prior to the March 28 and 29 meetings by sending them to the Designated Federal Official Jack E. Williams at the address given below.

FOR FURTHER INFORMATION CONTACT: Designated Federal Official Jack E. Williams; Rogue and Siskiyou national forests; P.O. Box 520, Medford, Oregon 97501; (541) 858-2200.

Dated: February 22, 2002.
Jack E. Williams,
Forest Supervisor, Rogue River and Siskiyou National Forests.

[FR Doc. 02-4771 Filed 2-27-02; 8:45 am]

BILLING CODE 3410-11-M